DEPARTMENT OF COMMERCE

National Oceanic and Atmospheric Administration

RIN 0648-XV002

Caribbean Fishery Management Council; Public Meeting

AGENCY: National Marine Fisheries Service (NMFS), National Oceanic and Atmospheric Administration (NOAA), Commerce.

ACTION: Notice of a public meeting.

SUMMARY: The Caribbean Fishery Management Council will hold its 166th meeting in August to discuss the items contained in the agenda in the Supplementary Information.

DATES: The meetings will be held on August 20, 2019, from 9 a.m. to 5 p.m., and August 21, 2019, from 8:30 a.m. to 5 p.m.

ADDRESSES: The meetings will be held at The Buccaneer Hotel, 5007 Estate Shoys, Christiansted, St. Croix, USVI.

FOR FURTHER INFORMATION CONTACT: Caribbean Fishery Management Council, 270 Muñoz Rivera Avenue, Suite 401, San Juan, Puerto Rico 00918-1903, telephone: (787) 766-5926.

SUPPLEMENTARY INFORMATION:

August 20, 2019, 9 a.m.-5 p.m.

○ Call to Order

○ Adoption of Agenda

○ Consideration of 165th Council Meeting Verbatim Transcriptions

○ Executive Director's Report

○ Fishery Ecosystem Plan

—Plan Team Update

DAP Reports (July 30-31, 2019 meetings)

—Puerto Rico

—St. Thomas/St. John

—St. Croix

○ SSC Report (August 13-15, 2019 meeting)

○ WECAFC Next Steps

○ Caribbean Fishery Management Council Five-Year Strategic Plan: Proposed Approach and Timeline—Michelle Duval

—Public Comment Period—5-minute presentations

August 20, 2019, 5:15 p.m.-6 p.m.

○ Administrative Issues

○ Closed Session

August 21, 2019, 8:30 a.m.-11 a.m.

○ Discussion of Proposed CFMC 5-year Strategic Plan—Michelle Duval

August 21, 2019, 11 a.m.-12 p.m.

○ Outreach and Education Report—Alida Ortiz

○ The Emergence of Stony Coral Tissue Loss Disease in St. Thomas and Possible Impacts to Fisheries—Marilyn Brandt

August 21, 2019, 12 noon-1:30 p.m.

○ Lunch

August 21, 2019, 1:30 p.m.-5 p.m.

○ Life History of Parrotfish Species and Queen Triggerfish Throughout the US Caribbean- Virginia Shervette

○ St. Thomas/St. John

—Fish Trap Compatibility

—Spiny Lobster Fishery Management

St. Croix

—Fish Trap Compatibility

—Spiny Lobster Fishery Management

○ Recreational Fisheries Management USVI Update—Nicole Angeli

○ Enforcement Issues:

—Puerto Rico-DNER

—USVI—DPNR

—U.S. Coast Guard

—NMFS/NOAA

○ Meetings Attended by Council Members and Staff

Other Business

—Lobster Project

—Public Comment Period—5-minute presentations

○ Next Meeting

The order of business may be adjusted as necessary to accommodate the completion of agenda items. The meeting will begin on August 20, 2019 at 9 a.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Authority: 16 U.S.C. 1801 et seq.

Dated: July 19, 2019.
Rey Israel Marquez,
Acting Deputy Director, Office of Sustainable Fisheries, National Marine Fisheries Service.

[FR Doc. 2019-15741 Filed 7-23-19; 8:45 am]

BILLING CODE 3510-22-P